DEPARTMENT OF HOMELAND SECURITY

Transportation Security Administration

[Docket No. TSA-2006-26514]

Extension of Agency Information Collection Activity Under OMB Review: Rail Transportation Security

AGENCY: Transportation Security Administration, DHS.

ACTION: 30-Day notice.

SUMMARY: This notice announces that the Transportation Security Administration (TSA) has forwarded the Information Collection Request (ICR), Office of Management and Budget (OMB) control number 1652-0051, abstracted below to OMB for review and approval of an extension of the currently approved collection under the Paperwork Reduction Act (PRA). The ICR describes the nature of the information collection and its expected burden. The collection involves the submission of contact information of security coordinators (SCs) and alternate SCs from certain freight rail and passenger rail entities; reporting of significant security concerns; documenting the transfer of custody and control of certain hazardous materials rail cars; and providing location and shipping information for certain hazardous materials rail cars.

DATES: Send your comments by June 9, 2022. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on December 23, 2021, 86 FR 72990.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Rail Transportation Security.

Type of Request: Extension of a currently approved collection.

OMB Control Number: 1652-0051.

Forms(s): NA.

Affected Public: Freight rail, passenger rail, and shippers/receivers of certain hazardous materials.

Abstract: TSA requires freight railroad carriers and certain facilities handling specified categories and quantities of hazardous materials be able to report location and shipping information to TSA upon request. See 49 CFR 1580.203. These regulated carriers and facilities must also implement chain of custody and control requirements to ensure a positive and secure exchange of the specified categories and quantities of hazardous materials listed in 49 CFR 1580.205, and make the reports available to TSA upon request. TSA further collects information from regulated parties on Security Coordinators and significant security concerns telephonically and electronically reporting.¹

¹ The requirements of this section also apply to certain over-the-road bus owner/operators and owner/operators of bus-only public transportation systems. The collection of information associated with bus operations is covered by OMB Control No. 1652-0066; Security Training Program for Surface Transportation Employees.

Number of Respondents: 1,760.

Estimated Annual Burden Hours: An estimated 112,600 hours annually.²

² Since the publication of the 60-day notice, TSA has updated the annual burden hours from 112,764 to 112,600 hours.

Dated: May 5, 2022.
Christina A. Walsh,
TSA Paperwork Reduction Act Officer, Information Technology.

[FR Doc. 2022-09990 Filed 5-9-22; 8:45 am]

BILLING CODE 9110-05-P